GENERAL SERVICES ADMINISTRATION

Privacy Act of 1974; Notice of updated System of Records

AGENCY: General Services Administration

ACTION: Notice of updated system of records

SUMMARY: The General Services Administration (GSA) is providing notice of an update to the record system Employee Drug Abuse/Alcoholism Files (GSA/HRO-2). The system includes counseling and rehabilitation referrals and records of counseling and rehabilitation.

EFFECTIVE DATE: The system of records will become effective without further notice on January 25, 2007 unless comments received on or before that date result in a contrary determination.

FOR FURTHER INFORMATION CONTACT: Call or e-mail the GSA Privacy Act Officer: telephone 202-501-1452/202-208-1317; e-mail gsa.privacyact@gsa.gov/

ADDRESSES: Comments may be submitted to the Director, Human Capital Policy and Program Management Division (CHP), Office of Human Capital Management (CH), 1800 F Street NW, Washington, DC 20405.

SUPPLEMENTARY INFORMATION: GSA reviewed this Privacy Act system of record to ensure that it is relevant, necessary, accurate, up-to-date, and covered by the appropriate legal or regulatory authority. Nothing in the updated system notice indicates a change in authorities or practices regarding the collection and maintenance of information. Nor do the changes impact individuals’ rights to access or amend their records in the system of records.

Dated: December 18, 2006.
Cheryl M. Paige
Acting Director, Office of Information Management

GSA/HRO-2

System name: Employee Drug Abuse/Alcoholism Files

Location:

The system is located in the office of the private sector organizations or providers for the Employee Assistance Program (EAP) who have contracted with the Office of Human Resources Services at GSA.

The EAP office contacts are as follows:

Central Office

Federal Occupational Health

(800)222-0364

National Capital Region

Federal Occupational Health

(800)222-0364

Northeast and Caribbean Region

Cooperative Administrative Support Program Consortia

Long Island and Queens: (516)222-1221

New Jersey: (201)402-1015

Puerto Rico and the Virgin Islands: (809)763-6701 or (800)981-5070

New York City: (212)264-4673

New England: (617)565-6533 or (800)869-8867

Mid-Atlantic Region

Federal Occupational Health

(800)222-0364

Southeast Sunbelt Region

Davine Sparks, LCSW

(800)222-0364 or (404)730-3237

Great Lakes Region

Federal Occupational Health

(800)222-0364

The Heartland Region

Federal Occupational Health

(800) 222-0364

Greater Southwest Region

Federal Occupational Health

(800)222-0364 or (888)262-7848

Pacific Rim Region

North of Bakersfield: Linda Boone or Jean Taylor (415)436-7448

South of Bakersfield: Joan Sexton (213)894-0160 or Sandy Freed (213)894-0153

New England Region

(617)565-6533 or (800) 869-8867

Rocky Mountain Region

Federal Occupational Health (800)222-0364 or (888)262-7848(TTY)

Types of records in the system:

1. Counseling and rehabilitation referrals.

2. Records of counseling and rehabilitation.

Authority for maintaining the system: Pub. L. 92-255 and 5 U.S.C. 7904.

Purpose:

To maintain an information system on employees suspected of abusing or known to abuse alcohol or another drug and for self-initiated referrals.

Routine uses of the record system, including types of users and their purposes in using it:

Disclosing information related to anyone with a history of alcohol or drug abuse is restricted by Alcohol and Drug Abuse Patient Records regulations, 42 CFR part 2.

System information may be accessed and used by authorized Federal agency employees or contractors to conduct official duties. Information from this system also may be disclosed as a routine use:

a. Documenting that the supervisor deals properly with an employee whose work is affected by alcohol abuse or other drug abuse.

b. Communicating information to those who use it in performing their duties, such as a counselor, medical or health worker, an alcohol or other drug abuse program administrator, or a qualified service organization.

c. Disclosing information to the Department of Justice or another Federal agency in defending a claim against the United States, when the claim is based on a person's mental or physical condition and is allegedly caused by GSA activities affecting the person.

d. In any legal proceeding, where pertinent, to which GSA is a party before a court or administrative body.

e. To authorized officials engaged in investigating or settling a grievance, complaint, or appeal filed by an individual who is the subject of the record.

f. To a Federal agency in connection with the hiring or retention of an employee; the issuance of a security clearance; the reporting of an investigation; the letting of a contract; or the issuance of a grant, license, or other benefit to the extent that the information is relevant and necessary to a decision.

g. To the Office of Personnel Management (OPM), the Office of Management and Budget (OMB), or the Government Accountability Office (GAO) when the information is required for program evaluation purposes.

h. To a Member of Congress or staff on behalf of and at the request of the individual who is the subject of the record.

i. To an expert, consultant, or contractor of GSA in the performance of a Federal duty to which the information is relevant.

j. To the National Archives and Records Administration (NARA) for records management purposes.

Policies and practices for storing, retrieving, accessing, retaining and disposing of records in the system:

Storage:

Paper records are kept in a file cabinet or in a drawer.

Retrievability:

The records are filed alphabetically by name.

Safeguards:

When not in use by an authorized person, the records are stored in a locked metal file cabinet or in a secured room.

Retention and disposal:

The records are kept for a year after the employee's last contact with a counselor or until the employee separates or transfers, whichever occurs first. If there is an EEO case, MSPB appeal, or arbitration, the records are kept for 3 years after the case is resolved. Records are destroyed by shredding or burning.

System manager(s) and address:

The Director, Human Capital Policy and Program Management Division (CHP), Office of Human Capital Management (CH), 1800 F Street NW, Washington, DC 20405.

Notification procedure:

An employee may obtain information as to whether he or she is part of the system of records from the immediate supervisor or the Director of Human Capital Policy and Program Management Division at the address above, whichever is appropriate.

Record access procedure:

A request to review a record related to you should be directed to the immediate supervisor or Director of Human Capital Policy and Program Management Division at the address above, whichever is appropriate. For the identification required, see 41 CFR part 105-64 published in the Federal Register. Procedure to contest a record: GSA rules to review the content of a record and appeal an initial decision are in 41 CFR part 105-64 published in the Federal Register.

Record sources:

The supervisor(s), counselors, personnel specialists, and individual employee.

[FR Doc. E6-22003 Filed 12-22-06; 8:45 am]

BILLING CODE 6820-34-S